DEPARTMENT OF HOMELAND SECURITY

Federal Emergency Management Agency

44 CFR Part 67

[Docket No. FEMA-P-7643]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | *Elevation in feet (NGVD): Existing | *Elevation in feet (NGVD): Modified | Communities affected
Little Blue River:
Approximately 6,650 feet downstream of U.S. Highway 81 | None | *1,440 | Thayer County, NE (Unincorporated Areas). City of Hebron, NE.
Approximately 14,320 feet upstream of South First Street | None | *1,459
ADDRESSES
Thayer County, Nebraska
Maps are available for inspection at the Thayer County Courthouse, 225 North Fourth Street, Hebron, Nebraska.
Send comments to Mr. Chris Frye, Zoning Administrator, P.O. Box 401, Hebron, Nebraska 68370.
City of Hebron, Nebraska
Maps are available for inspection at City Hall, City of Hebron, 216 Lincoln Avenue, Hebron, Nebraska.
Send comments to Mr. David Farnstrom, Zoning Administrator, 216 Lincoln Avenue, Hebron, Nebraska 68370.
Bear Creek:
Mouth at Great Miami River | N/A | *704 | Village of New Lebanon, OH.
At the confluence of Diehl Run (approximately 5,600 feet upstream of U.S. Highway 35) | N/A | *881 | City of Miamisburg, OH. City of Moraine, OH. Montgomery County, OH.
Diehl Run:
Confluence at Bear Creek | N/A | *881 | Village of New Lebanon, OH.
Approximately 35 feet downstream of North Johnsonville Road | N/A | *960 | Montgomery County, OH.
Dry Run:
Just upstream of Free Pike | N/A | *804 | City of Clayton, OH. City of Dayton, OH.
Approximately 710 feet upstream of Union Road | N/A | *943 | City of Trotwood, OH. Montgomery County, OH.
Garber Run:
Mouth at Bear Creek | N/A | *856 | Montgomery County, OH.
Approximately 6,200 feet upstream of Old Dayton Road | N/A | *934
Holes Creek:
Just upstream of CSX Railroad | *725 | *722 | City of Centerville, OH. City of Moraine, OH.
Approximately 200 feet upstream of Silverlake Drive | N/A | *914 | City of W. Carrolton, OH. Montgomery County, OH.
Little Bear Creek:
Confluence at Bear Creek | N/A | *775 | Montgomery County, OH.
Approximately 2,870 feet upstream of Old Dayton Road | N/A | *935
North Branch Wolf Creek:
Just upstream of Oakes Road | N/A | *860 | City of Clayton, OH. City of Trotwood, OH.
Just downstream of Interstate 70/U.S. Highway 49 | N/A | *944 | Montgomery County, OH.
Poplar Creek:
Approximately 250 feet downstream of East Stonequarry Road | *864 | *865 | City of Vandalia, OH.
Approximately 580 feet upstream of East Stonequarry Road | *874 | *875
Spring Run:
Confluence at Little Bear Creek | N/A | *819 | Montgomery County, OH.
Approximately 2,000 feet upstream of North Snyder Road | N/A | *916
ADDRESSES
City of Centerville, Ohio
Maps are available for inspection at the Municipal Government Center, 100 West Spring Valley Road, Centerville, Ohio.
Send comments to Mr. Mike Murray, Assistant City Engineer, City of Centerville, 100 West Spring Valley Road, Centerville, Ohio 45458.
City of Clayton, Ohio
Maps are available for inspection at the City Administration Building, 6996 Taywood Road, Englewood, Ohio.
Send comments to Mr. Brian Elkins, Zoning Director, City of Clayton, P.O. Box 280, Clayton, Ohio 45315-0280.
City of Dayton, Ohio
Maps are available for inspection at the Planning and Community Development Office, 101 West Third Street, Dayton, Ohio.
Send comments to Mr. Michael Cromartie, Building Inspection Manager, City of Dayton, 271 West Second Street, Dayton, Ohio 45402.
City of Miamisburg, Ohio
Maps are available for inspection at City Annex Building, 10 North First Street, Miamisburg, Ohio.
Send comments to Mr. John Creech, City Planner, 10 North First Street, Miamisburg, Ohio 45342.
City of Moraine, Ohio
Maps are available for inspection at the Community Development Department, Municipal Building, 4200 Dryden Road, Moraine, Ohio.
Send comments to Mr. Scott Young, Building and Zoning Administrator, City of Moraine, Municipal Building, 4200 Dryden Road, Moraine, Ohio 45439.
Village of New Lebanon, Ohio
Maps are available for inspection at the Municipality of New Lebanon Village Offices, 198 South Clayton Road, New Lebanon, Ohio.
Send comments to Mr. Allen Moe, Village Engineer, 3939 Vanco Lane, Vandalia, Ohio 45377.
City of Trotwood, Ohio
Maps are available for inspection at the Department of Public Works, Trotwood Government Center, 4 Strader Drive, Trotwood, Ohio.
Send comments to Mr. Thomas Odenigbo, Public Works Director, Department of Public Works, Trotwood Government Center, 4 Strader Drive, Trotwood, Ohio 45426-2600.
City of Vandalia, Ohio
Maps are available for inspection at the City of Vandalia City Building, 333 James E. Bohanan Memorial Drive, Vandalia, Ohio 45377.
Send comments to Mr. Robert G. Galvin, P.E., Deputy City Engineer, City of Vandalia, City Engineer's Office, 333 James E. Bohanan Memorial Drive, Vandalia, Ohio 45449.
City of West Carrollton, Ohio
Maps are available for inspection at the City of West Carrollton Civic Center, 300 East Central Avenue, West Carrollton, Ohio.
Send comments to Mr. David Humphreys, Director of Planning and Economic Development, City of West Carrollton Civic Center, 300 East Central Avenue, West Carrollton, Ohio 45449.
Montgomery County, Ohio
Maps are available for inspection at Montgomery County Administration Building, 451 West Third Street, Room 800, Dayton, Ohio.
Send comments to Mr. Joseph Litvin, Montgomery County Engineer, Montgomery County Administration Building, 451 West Third Street, Room 800, Dayton, Ohio 45422.

(Catalog of Federal Domestic Assistance No. 83.100, “Flood Insurance.”)
Dated: February 11, 2004.
Anthony S. Lowe,
Mitigation Division Director, Emergency Preparedness and Response Directorate.

[FR Doc. 04-3813 Filed 2-20-04; 8:45 am]

BILLING CODE 6718-04-P